DEPARTMENT OF DEFENSE

Defense Acquisition Regulations System

48 CFR Part 252

Defense Federal Acquisition Regulation Supplement; Technical Amendment

AGENCY: Defense Acquisition Regulations System. Department of Defense (DoD).

ACTION: Final rule.

SUMMARY: DoD is making a technical amendment to the Defense Federal Acquisition Regulation Supplement (DFARS) to correct the date of DFARS clause 252.222-7006.

DATES: Effective Date: July 13, 2010.

FOR FURTHER INFORMATION CONTACT: Ms. Ynette R. Shelkin, Defense Acquisition Regulations System, OUSD (AT&L) DPAP/DARS, Room 3B855, 3060 Defense Pentagon, Washington, DC 20301-3060. Telephone 703-602-8384; facsimile 703-602-0350.

SUPPLEMENTARY INFORMATION: This final rule amends the revision date of DFARS clause 252.222-7006. DoD published an interim rule at 75 FR 27946 on May 19, 2010, for DFARS Case 2010-D004, Restrictions on the Use of Mandatory Arbitration Agreements, in which it failed to cite a date for DFARS clause 252.222-7006. The date for the clause should have been May 19, 2010, the date the interim rule was published.

List of Subjects in 48 CFR Part 252

Government Procurement.

Ynette R. Shelkin,
Editor, Defense Acquisition Regulations System.

Therefore 48 CFR part 252 is amended as follows:

PART 252—SOLICITATION PROVISIONS AND CONTRACT CLAUSES

1. The authority citation for 48 CFR part 252 continues to read as follows:

Authority: 41 U.S.C. 421 and 48 CFR chapter 1.

2. Section 252.222-7006 is amended by revising the clause date as follows:

252.222-7006 Restrictions on the Use of Mandatory Arbitration Agreements

* * * * *

RESTRICTIONS ON THE USE OF MANDATORY ARBITRATION AGREEMENTS (MAY 2010)

* * * * *

[FR Doc. 2010-16908 Filed 7-12-10; 8:45 am]

BILLING CODE 5001-08-P